DEPARTMENT OF THE INTERIOR

National Park Service

[NPS-WASO-NAGPRA-NPS0035442; PPWOCRADN0-PCU00RP14.R50000]

Notice of Intent To Repatriate Cultural Items: Hudson Museum, University of Maine, Orono, ME

AGENCY: National Park Service, Interior.

ACTION: Notice.

SUMMARY: In accordance with the Native American Graves Protection and Repatriation Act (NAGPRA), the Hudson Museum intends to repatriate a cultural item that meets the definition of an object of cultural patrimony and that has a cultural affiliation with the Indian Tribes or Native Hawaiian organizations in this notice. The cultural item was removed from Wrangell Borough, AK.

DATES: Repatriation of the cultural items in this notice may occur on or after April 10, 2023.

ADDRESSES: Amber Sky Heller, Registrar, Hudson Museum, University of Maine, 5746 Collins Center for the Arts, Orono, ME 04469, telephone (207) 581-1902, email amber.sky.heller@maine.edu.

SUPPLEMENTARY INFORMATION: This notice is published as part of the National Park Service's administrative responsibilities under NAGPRA. The determinations in this notice are the sole responsibility of the Hudson Museum. The National Park Service is not responsible for the determinations in this notice. Additional information on the determinations in this notice, including the results of consultation, can be found in the summary or related records held by the Hudson Museum.

Description

The cultural item was removed from Wrangell Borough, AK. At an unknown date, Proctor Stafford acquired a helmet from an unidentified woman living in Honolulu, HI. Subsequently, William P. Palmer, III purchased it from Stafford. In 1982, Palmer bequeathed this object to the University of Maine and it became part of the Hudson Museum's holdings. The object of cultural patrimony is a Frog Clan helmet (HM5040).

In June of 2018, a delegation from the Central Council of Tlingit and Haida Indian Tribes of Alaska came to the Hudson Museum for consultation. Subsequently, the Hudson Museum determined that this helmet is culturally affiliated with both the Central Council of Tlingit and Haida Indian Tribes of Alaska and the Kiks.ádi clan of the Wrangell Cooperative Association.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological, historical, oral traditional, other relevant information, and expert opinion.

Determinations

Pursuant to NAGPRA and its implementing regulations, and after consultation with the appropriate Indian Tribes and Native Hawaiian organizations, the Hudson Museum has determined that:

• The one cultural item described above have ongoing historical, traditional, or cultural importance central to the Native American group or culture itself, rather than property owned by an individual.

• There is a relationship of shared group identity that can be reasonably traced between the cultural item and the Central Council of the Tlingit & Haida Indian Tribes and the Wrangell Cooperative Association.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 10, 2023. If competing requests for repatriation are received, the Hudson Museum must determine the most appropriate requestor prior to repatriation. Requests for joint repatriation of the cultural item are considered a single request and not competing requests. The Hudson Museum is responsible for sending a copy of this notice to the Indian Tribes identified in this notice.

Authority: Native American Graves Protection and Repatriation Act, 25 U.S.C. 3003, and the implementing regulations, 43 CFR 10.8, § 10.10, and § 10.14.

Dated: March 1, 2023.
Melanie O'Brien,
Manager, National NAGPRA Program.

[FR Doc. 2023-04895 Filed 3-9-23; 8:45 am]

BILLING CODE 4312-52-P